ENVIRONMENTAL PROTECTION AGENCY

[OEI-100009; FRL 6723-2]

Public Meeting to Discuss Guidance Document for Lead and Lead Compounds; Community Right-to-Know Toxic Chemical Release Reporting

AGENCY: Environmental Protection Agency (EPA).

ACTION: Notice of pending availability; request for comments and request for workgroup members.

SUMMARY: On January 17, 2001, EPA published a final rule (66 FR 4499-4547) that lowered the reporting thresholds for lead and lead compounds, under section 313 of the Emergency Planning and Community Right-to-Know Act of 1986 (EPCRA) and section 6607 of the Pollution Prevention Act of 1990 (PPA). With this rulemaking EPA lowered the 25,000 pound and 10,000 pound manufacturing, processing and otherwise use reporting thresholds to 100 pounds (except for lead contained in stainless steel, brass, and bronze alloys). EPA is currently developing a guidance document intended to assist regulated entities, particularly those that are not familiar with completing and submitting EPCRA section 313 release reports, in complying with this new regulation. This guidance document will provide guidance on: The specific details of this new regulation; which facilities must file release reports for lead and lead compounds; and methods to estimate releases of lead and lead compounds into the environment associated with manufacture, processing, use, or waste management activities of lead and lead compounds. With this notice EPA is announcing that a public meeting has been scheduled to take place on September 24, 2001, in Arlington, Virginia to discuss the draft version of this guidance document, which will be made available approximately three weeks prior to the meeting. EPA is requesting comments on this draft guidance document when it becomes available and is also requesting the participation of interested stakeholders on a workgroup to assist in the preparation of the final guidance document.

DATES: Written comments, identified by the docket control number OEI-100009, must be received by EPA on or before September 20, 2001.

ADDRESSES: Comments may be submitted by mail, electronically, or in person. Please follow the detailed instructions for each method as provided in Unit I. of the SUPPLEMENTARY INFORMATION section of this document.

FOR FURTHER INFORMATION CONTACT: Stephen C. DeVito, (202) 260-6185, e-mail: devito.steve@epa.gov, for specific information on this notice and the guidance document described herein. For more information on EPCRA section 313, contact the Emergency Planning and Community Right-to-Know Hotline, Environmental Protection Agency, Mail Code 5101, 1200 Pennsylvania Ave., NW., Washington, DC 20460, Toll free: 1-800-535-0202, in Virginia and Alaska: (703) 412-9877 or Toll free TDD: 1-800-553-7672. Information concerning this notice is also available on EPA's Web site at http://www.epa.gov/tri.

SUPPLEMENTARY INFORMATION:

I. General Information

A. Does this Notice Apply to Me?

You may be interested in this notice if you manufacture, process, or otherwise use lead or lead compounds. Potentially interested categories and entities may include, but are not limited to:

Category | Examples of Potentially Interested Entities
Industry | SIC major group codes 10 (except 1011, 1081, and 1094), 12 (except 1241), or 20 through 39; industry codes 4911 (limited to facilities that combust coal and/or oil for the purpose of generating power for distribution in commerce); 4931 (limited to facilities that combust coal and/or oil for the purpose of generating power for distribution in commerce); or 4939 (limited to facilities that combust coal and/or oil for the purpose of generating power for distribution in commerce); or 4953 (limited to facilities regulated under the Resource Conservation and Recovery Act, subtitle C, 42 U.S.C. section 6921 et seq.), or 5169, or 5171, or 7389 (limited to facilities primarily engaged in solvent recovery services on a contract or fee basis)
Federal Government | Federal facilities

This table is not intended to be complete, but rather provides a guide for readers regarding entities likely to be interested in this notice. Other types of entities not listed in the table could also be interested. To determine whether your facility may be interested in this notice, you should carefully examine the applicability criteria in part 372, subpart B of Title 40 of the Code of Federal Regulations. If you have questions regarding the applicability of this notice to a particular entity, consult the person listed in the preceding FOR FURTHER INFORMATION CONTACT section.

B. How Can I Get Additional Information on the Upcoming Public Meeting, and a Copy of the Draft Guidance Document?

1. Information Pertaining to the Upcoming Public Meeting. Please note that there is limited attendance at the public meeting. To register to attend the public meeting, please contact Andrea Auerbach of the Eastern Research Group, Inc. by electronic mail at meetings@erg.com or by telephone at: (781) 674-7374. Upon registering, you will receive a confirmation notice including information on the hotel, driving directions and other logistics. Information regarding the upcoming public meeting may also be obtained by visiting the following EPA internet address: http://www.epa.gov/tri, and selecting “What's New”.

2. Obtaining a Copy of the Draft Guidance Document. The draft version of the guidance document for which EPA is requesting public comment and will be discussed at the public meeting to be held on September 24, 2001, is currently under development. The draft version will be made available for public comment approximately three weeks prior to the public meeting. Copies of the draft version will be made available as follows:

a. Electronically. The draft guidance document for lead and lead compounds will be made available for downloading at http://www.epa.gov/tri/. You may obtain electronic copies of this FR notice from the EPA internet Home Page at http://www.epa.gov/. On the Home Page select “Laws and Regulations” and then look up the entry for this document under the “Federal Register—Environmental Documents.” You can also go directly to the “Federal Register” listings at http://www.epa.gov/fedrgstr/ for a copy of this Federal Register notice.

b. In person. The Agency has established an official record for this action under docket control number OEI-100009. The official record will consist of the document specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. Be sure to identify the appropriate docket control number (i.e., “OEI-100009”) in your correspondence.

1. By mail. Submit written comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is: (202) 260-7093.

3. Electronically. Submit your comments electronically by E-mail to: “oppt.ncic@epa.gov.” Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-100009. Electronic comments on this document may also be filed online at many Federal Depository Libraries.

D. How Should I Handle CBI Information That I Want to Submit to the Agency?

You may claim information that you submit in response to this document as CBI by marking any part or all of that information as CBI. Information so marked will not be disclosed except in accordance with procedures set forth in 40 CFR part 2. A copy of the comment that does not contain CBI must be submitted for inclusion in the public record. Information not marked confidential will be included in the public docket by EPA without prior notice. If you have any questions about CBI or the procedures for claiming CBI, please consult with the technical person identified in the FOR FURTHER INFORMATION CONTACT section.

II. Background Information

A. What is the Purpose of This Notice?

The purpose of this notice is to announce that a public meeting will be held to discuss the draft version of an EPA document titled: “Emergency Planning and Community Right-to-Know Act—Section 313: Guidance for Reporting Toxic Chemicals: Lead and Lead Compounds”. The meeting will take place on September 24, 2001, at the Holiday Inn Arlington at Ballston, Arlington, Virginia. The draft document, which is currently under development by EPA, will be made available for comment approximately three weeks prior to the meeting. Once finalized, the purpose of this document is to assist regulated entities, particularly those that are not familiar with completing and submitting EPCRA section 313 release reports, in complying with this new regulation. This guidance document will provide guidance on: the specific details of this new regulation; which facilities must file release reports for lead and lead compounds; and methods to estimate releases of lead and lead compounds into the environment associated with manufacture, processing, use, or waste management activities. EPA would like to receive comments on the technical contents of the draft guidance document, particularly on the methods of estimating releases and other waste management quantities for lead and lead compounds. Unit I.B. of this notice contains information on how to get copies of the draft guidance document once the document becomes available. Through this notice EPA is also announcing that a public meeting has been scheduled to take place on September 24, 2001, to discuss the draft guidance. Stakeholders interested in attending this meeting should contact the person or internet address identified in Section I.B.1 “Information Pertaining to the Upcoming Public Meeting” section of this notice. Please note that attendance at this meeting is limited. Attendance at the public meeting is not necessary for comments to be considered; all comments received within the allocated timeframe stated in this notice will be considered in preparing the final guidance document.

List of Subjects in 40 CFR Part 372

Environmental protection, Chemicals, Community right-to-know, Hazardous substances, Intergovernmental relations, Reporting and recordkeeping requirements, Superfund.

Dated: August 10, 2001.
Maria Doa,
Acting Director, Office of Information Analysis and Access.

[FR Doc. 01-21049 Filed 8-20-01; 8:45 am]

BILLING CODE 6560-50-F